DEPARTMENT OF TRANSPORTATION

Federal Aviation Administration

Fourth Meeting: RTCA Special Committee 225: Rechargeable Lithium Batteries and Battery Systems—Small and Medium Sizes

AGENCY: Federal Aviation Administration (FAA), DOT.

ACTION: Notice of RTCA Special Committee 225 meeting: Rechargeable Lithium Batteries and Battery Systems—Small and Medium Sizes.

SUMMARY: The FAA is issuing this notice to advise the public of a meeting of RTCA Special Committee 225: Rechargeable Lithium Batteries and Battery Systems—Small and Medium Sizes.

DATES: The meeting will be held September 27-28, 2011, from 9 a.m. to 5 p.m.

ADDRESSES: The meeting will be held at RTCA, Inc., 1150 18th Street, Suite 910, NW., Washington, DC 20036.

FOR FURTHER INFORMATION CONTACT: RTCA Secretariat, 1150 18th Street, Suite 910, NW., Washington, DC 20036, telephone (202) 833-9339 or e-mail jiverson@rtca.org, fax (202) 833-9434, Web site http://www.rtca.org.

SUPPLEMENTARY INFORMATION: Pursuant to section 10(a) (2) of the Federal Advisory Committee Act (Pub. L. 92-463, 5 U.S.C., and Appendix 2), notice is hereby given for a Special Committee 225, Rechargeable Lithium Batteries and Battery Systems—Small and Medium Sizes

Agenda

Tuesday September 27, 2011

• Welcome/Introductions/Administrative Remarks.

• Review of the meeting agenda.

• Review and approval of summary from the third plenary meeting RTCA paper no. 149-11/SC225-006.

• Tom Chapin from UL presentation on research regarding Lithium battery testing at UL.

• Review of action items.

• Review draft document that includes top tier requirements 1, 2, 3 and 5.

• Review top tier requirements 4, 7, 8 and 9.

• Review new action items.

• Review agenda for Wednesday, September 28.

Wednesday September 28, 2011

• Review meeting agenda, other actions.

• Working Groups meeting.

• Review draft document that includes top tier requirements 1, 2, 3 and 5.

• Finish discussion for Requirement 6.

• Continue discussion on top tier requirements 4, 7, 8 and 9.

• Working Group report, review progress and actions.

• Other Business.

• Establish Agenda for Fifth Plenary Meeting.

• Administrative Items (Meeting Schedule).

• Review all action items.

• Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 26, 2011.
Robert L. Bostiga,
RTCA Advisory Committee.

[FR Doc. 2011-22455 Filed 8-31-11; 8:45 am]

BILLING CODE 4910-13-P